DEPARTMENT OF THE TREASURY

Agency Information Collection Activities; Submission for OMB Review; Comment Request; VITA/TCE Volunteer Program

AGENCY: Departmental Offices, U.S. Department of the Treasury.

ACTION: Notice.

SUMMARY: The Department of the Treasury will submit the following information collection requests to the Office of Management and Budget (OMB) for review and clearance in accordance with the Paperwork Reduction Act of 1995 (PRA), on or after the date of publication of this notice. The public is invited to submit comments on these requests.

DATES: Comments must be received on or before April 21, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

1. Title: VITA/TCE Volunteer Program.

OMB Control Number: 1545-2222.

Type of Review: Revision of a currently approved collection.

Description: The Internal Revenue Service offers free assistance with tax return preparation and tax counseling using specially trained volunteers. The Volunteer Income Tax Assistance (VITA) and Tax Counseling for the Elderly (TCE) programs assist seniors and individuals with low to moderate incomes, those with disabilities, and those for whom English is a second language.

Current Actions: There is a change in the paperwork burden previously approved by OMB. The agency has requested to add Forms 13977, 13978, and 14335 to this collection and has updated the form to meet 508 compliance. The information on the form can only be submitted to the IRS at https://www.irs.gov/individuals/irs-tax-volunteers. This process is part of Link and Learn (a self-paced e-learning for the Volunteer Income Tax Assistance and Tax Counseling for the Elderly (VITA/TCE) program).

Form Number: IRS Forms 8653, 8654, 13206, 13715, 13977, 13978, 14204, 14310 and 14335.

Affected Public: Individuals and Households.

Estimated Number of Respondents: 34,100.

Frequency of Response: On Occasion.

Estimated Total Number of Annual Responses: 49,100.

Estimated Time per Response: 21 minutes.

Estimated Total Annual Burden Hours: 17,034.

Authority: 44 U.S.C. 3501 et seq.

Dated: March 17, 2022.
Molly Stasko,
Treasury PRA Clearance Officer.

[FR Doc. 2022-06030 Filed 3-21-22; 8:45 am]

BILLING CODE 4830-01-P